DEPARTMENT OF AGRICULTURE

Forest Service

Cherry Dinner Project, Clearwater National Forest, Latah County, ID

AGENCY: Forest Service, USDA.

ACTION: Notice of intent to prepare an environmental impact statement.

SUMMARY: The USDA, Forest Service, will prepare an Environmental Impact Statement (EIS) to disclose the environmental effects of timber harvest prescribed fire, watershed restoration, and access management activities in the Cherry Dinner project area on the Palouse Ranger District of the Clearwater National Forest. The Cherry Dinner project area is located between the towns of Helmer and Bovill within the Hog Meadow Creek and Little Boulder Creek drainages, approximately 25 air-miles north of the town of Orofino, Idaho.

DATES: Comments on this project must be received, in writing, within 30 days following the publication of this notice in the Federal Register. A 45-day public comment period will follow the release of the draft environmental impact statement that is expected in April 2007. The final environmental impact statement is expected in September 2007.

ADDRESSES: Written comments and suggestions concerning the scope of this project should be sent to Kara Chadwick (kchadwick@fs.fed.us), District Ranger, Palouse Ranger District, 1700 Highway 6, Potlatch, ID 83855.

FOR FURTHER INFORMATION CONTACT: George Harbaugh (gharbaugh@fs.fed.us), Project Leader, Lochsa Ranger District. Phone: (208) 926-4274.

SUPPLEMENTARY INFORMATION: The Cherry Dinner project area contains approximately 20,470 acres, of which 14,670 acres are National Forest lands and 5,800 acres are other ownership (State, timber companies, and private). The legal location is mostly in portions of T40N, R1W and small portions of T40N, R1E, T41N, R1W, and T39N, R1W, Boise Meridian, Latah County, Idaho. The proposed actions would occur on National Forest lands and are all outside the boundaries of any inventoried roadless area or any areas considered for inclusion to the National Wilderness System as recommended by the Clearwater National Forest Plan or by any past or present legislative wilderness proposals.

Purpose and Need for Action is to: (1) Improve species diversity and productivity by reestablishing seral species, such as western white pine, ponderosa pine, and western larch, which historical dominated the cover type in this area; (2) reduce fuel buildup in stands in the wildland urban interface (WUI) where fire suppression has interrupted the short-return fire interval and resulted in unnaturally high amounts of fuel and overgrown understory, and create a more defensible space to control wildfire on Forest Service land adjacent to private structures and homes; (3) reduce long-term sedimentation to streams caused by existing unsurfaced roads, and stabilize stream banks made unstable by motorized vehicles, cattle trailing, and channelization (historic railroad grades); (4) update fish/water quality standards in Appendix K of the Clearwater Forest Plan to better meet the Clean Water Act standards of supporting fisheries and reflect better information on fisheries collected in stream surveys; and (5) provide for a reasonable level of human access, reduce user conflicts, and provide the necessary resource protection required by law, regulation, and good stewardship practices.

The Proposed Action would harvest timber from about 2,210 acres, using regeneration harvest methods, improvement cuts, and commercial thinning. Road activities associated with the timber sales would include constructing 8.1 miles of permanent road, reconstructing 9.4 miles of existing roads, and constructing 1.5 miles of temporary road (to be decommissioned after harvest activity). Understory slashing and prescribed fire would be applied on 310 acres to reintroduce fire, not associated with timber harvest. Watershed improvements would include 24.2 miles of road decommissioning, putting 24.6 miles of existing roads into intermittent stored service (self-maintaining), and stabilizing 4.8 miles of streambanks along the East Fork Potlatch River and its tributaries. Access management would consist of constructing a 0.5 mile OHV connector trail and managing area roads and trails based on a Roads Analysis. Other components of the proposed action include designating approximately 1,700 of forest to be managed for old growth and raising fish/water quality standards on 3 streams to incorporate better information on fish and their habitat. There is also the opportunity to precommercial thin approximately 200 acres of young stands scattered throughout the project area.

Possible Alternatives the Forest Service will consider include the “no action” alternative in which none of the proposed activities would be implemented. Additional alternatives being considered examine varying levels and locations for the proposed activities to achieve the proposal's purpose and need, as well as to respond to the issues and other resource concerns.

The Responsible Official is the Forest Supervisor of the Clearwater National Forest, 12730 Highway 12, Orofino, ID 83544. The Responsible Official will decide if the proposed project will be implemented and will document the decision and reasons for the decision in a Record of Decision. That decision will be subject to Forest Service Appeal Regulations. The responsibility for preparing the DEIS and FEIS has been delegated to Kara Chadwick, District Ranger, Palouse Ranger District, 1700 Highway 6, Potlatch, ID 83855.

The Scoping Process for the EIS is being initiated with this notice, and written comments regarding the analysis should be received within 30 days following the publication of this notice in the Federal Register. Additional scoping will follow the release of the DEIS, expected in April 2007. This proposal also includes eight openings greater than 40 acres that would be created by timber harvest. A 60-day public review period was initiated on April 19, 2005, and approval to exceed 40 acres was received from the Regional Office on November 22, 2005. However, additional comments on this issue will be accepted during this 30-day scoping period.

Issues identified through previous scoping that could be affected by proposed activities include: Access management, air quality, economic feasibility, fish habitat, heritage resources, sensitive and management indicator species of wildlife, sensitive plants, snag habitat, soil productivity, spread of noxious weeds, tribal treaty rights, and water quality. Issues expected not to be affected by the proposal include impacts of grazing, old growth habitat, risk of landslides, and threatened and endangered wildlife and plant species. Issues found to be outside the scope of the project or not consistent with Forest Plan standards include developing a wildland fire use plan and using prescribed fire over timber harvest.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: November 7, 2006.
Thomas K. Reilly,
Forest Supervisor.

[FR Doc. 06-9199 Filed 11-14-06; 8:45 am]

BILLING CODE 3410-11-M